DEPARTMENT OF ENERGY

Federal Energy Regulatory Commission

[Project No. 13213-003; Project No. 13214-003]

Lock 14 Hydro Partners; Lock 12 Hydro Partners; Notice of Technical Meeting

a. Project Names and Numbers: From upstream to downstream order, Heidelberg Hydroelectric Project No. 13213, and Ravenna Hydroelectric Project No. 13214.

b. Date and Time of Meeting: April 28, 2015; 10:00 p.m. Eastern Time (11:00 p.m. Central Time).

c. FERC Contact: Michael Spencer, michael.spencer@ferc.gov or (202) 502-6093.

d. Purpose of Meeting: To discuss the concerns raised in the FWS letter, filed March 31, 2015, about endangered species for the projects listed above.

e. A summary of the meeting will be prepared and filed for the projects' records.

f. All local, state, and federal agencies, Indian tribes, and other interested parties are invited to participate by phone. Please contact Michael Spencer at michael.spencer@ferc.gov or (202) 502-6093 by close of business Tuesday, November 25, 2014, to R.S.V.P. and to receive specific instructions on how to participate.

Dated: April 13, 2015.
Kimberly D. Bose,
Secretary.

[FR Doc. 2015-08879 Filed 4-16-15; 8:45 am]

BILLING CODE 6717-01-P